DEPARTMENT OF HEALTH AND HUMAN SERVICES

Administration for Children and Families

Submission for OMB Review; Office of Community Services Data Collection for the Low Income Household Water Assistance Program Reports (0970-0578)

AGENCY: Office of Community Services; Administration for Children and Families; HHS.

ACTION: Request for public comment.

SUMMARY: The Office of Community Services (OCS), Administration for Children and Families (ACF), U.S. Department of Health and Human Services (HHS), is requesting an extension of approval for an information request to collect data from Low Income Household Water Assistance Program (LIHWAP) grant recipients. This information collection was originally approved for 6 months as an emergency approval. OCS is proposing revisions to the information collection based on feedback received to date.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The LIHWAP Quarterly Performance and Management Report and the LIHWAP Annual Report provide ACF and Congress information necessary for oversight of recipients' performance in administering the LIHWAP program. The LIHWAP Quarterly Performance and Management Report solicits information on total households assisted, type of assistance provided, LIHWAP implementation information, performance management, and ongoing training/technical assistance needs. The LIHWAP Annual Report is modeled after the Low Income Home Energy Assistance Annual Report and has been streamlined to reduce recipient burden. The LIHWAP Annual Report collects data in three distinct modules: (1) Use of Funds, (2) Household Report, (3) Performance Measures.

This information collection package also includes a burden estimate related to the information collected from households. While grant recipients will collect necessary information from households using a variety of intake systems and local forms, OCS is providing technical assistance in this area and has included a sample application template in supplementary materials. This is a sample template; there will be no mandated household application format, and OCS will not receive or analyze copies of individual household application materials. OCS is proposing changes based on feedback received, including comments in response to a request for comments in the Federal Register (86 FR 59166). The currently approved versions of the LIHWAP Quarterly and Annual Reports and the sample application can be found here https://www.reginfo.gov/public/do/PRAViewICR?ref_nbr=202110-0970-011. Updated materials can be found by following the directions to submit a comment in the ADDRESSES section of this notice.

Respondents: LIHWAP grant recipients.

Annual Burden Estimates
Instrument | Total number of respondents | Total number of responses per respondent | Average burden hours per response | Annual burden hours
Quarterly Report for FY 2022 | 157 | 4 | 13 | 8,164
Quarterly Report for FY 2023 | 157 | 4 | 10 | 6,280
Annual Report | 157 | 2 | 211 | 33,127
Household Application | 1,200,000 | 1 | .5 | 200,000

Estimated Total Annual Burden Hours: 241,291 (for FY 2022), 239,407 (for FY 2023).

Authority: Public Law 116-260 and LIHWAP Terms and Conditions Section 10 (https://www.acf.hhs.gov/sites/default/files/documents/LIHWAP%20Terms%20and%20Conditions%20for%20States.pdf).

Mary B. Jones,
ACF/OPRE Certifying Officer.

[FR Doc. 2022-03610 Filed 2-17-22; 8:45 am]

BILLING CODE 4184-86-P